DEPARTMENT OF COMMERCE

National Oceanic and Atmospheric Administration

[Docket No. 040227075-4075-01; I.D. 022304B]

National Marine Fisheries Service National Gravel Extraction Guidance

AGENCY: National Marine Fisheries Service (NOAA Fisheries), National Oceanic and Atmospheric Administration (NOAA), Commerce.

ACTION: Notice of availability to review and comment on draft National Marine Fisheries Service Gravel Extraction Guidance.

SUMMARY: NOAA Fisheries encourages all stakeholders, users, and the public to review the draft NOAA Fisheries Gravel Extraction Guidance. All comments received will be reviewed and considered in the final drafting of the Gravel Extraction Guidance.

DATES: Public comments must be received on or before 5 p.m., local time, May 3, 2004.

ADDRESSES: Comments on this guidance document may be submitted by email to Gravel.guidance@noaa.gov, or faxed to 301-427-2571, or mailed to Gravel Guidance, 1315 East-West Hwy, Room 14108, Silver Spring, MD 20910.

The draft NOAA Fisheries Gravel Extraction Guidance is available at http://www.nmfs.noaa.gov/habitat or by sending a request to Gravel.guidance@noaa.gov. Please include appropriate contact information when requesting the document.

FOR FURTHER INFORMATION CONTACT: Kerry Griffin at 301-713-4300.

SUPPLEMENTARY INFORMATION: NOAA Fisheries is responsible for protecting, managing and conserving marine, estuarine, and anadromous fish resources and their habitats. The watersheds of the United States where sand and gravel mining takes place provide essential spawning and rearing habitat for anadromous fish including salmon, shad, sturgeon, and striped bass. A national guidance document on gravel extraction will assist NOAA Fisheries staff in determining whether proposed gravel extraction operations will be conducted in a manner that is consistent with Federal law, and that eliminates or minimizes any adverse impacts to anadromous fish and their habitats.

The recommendations incorporated into the guidance document are suggestions, and are not intended to be binding in any way. This guidance does not specify the measures, if any, that would need to be implemented by parties engaged in gravel extraction activities in any given case to comply with applicable statutory requirements. In formulating its recommendations or prescriptions, NOAA Fisheries will determine the acceptable means of demonstrating compliance with statutory requirements based on information available to the agency, as appropriate under the circumstances presented. As such, the language of the guidance document should not be read to establish any binding requirements on agency staff or the regulated community. The recommendations should not be regarded as static or inflexible, and are meant to be revised as the science upon which they are based improves and areas of uncertainty are resolved. Furthermore, the recommendations are meant to be adapted for regional or local use, so a degree of flexibility in their interpretation and application is necessary.

Dated: March 11, 2004.
Rebecca Lent,
Deputy Assistant Administrator for Regulatory Programs, National Marine Fisheries Service.

[FR Doc. 04-6132 Filed 3-17-04; 8:45 am]

BILLING CODE 3510-22-S